DEPARTMENT OF DEFENSE

Department of the Navy

Notice of Intent To Grant a Partially Exclusive Patent License; Oasis Diagnostics Corp

AGENCY: Department of the Navy, DoD.

ACTION: Notice.

SUMMARY: The Department of the Navy hereby gives notice of its intent to grant to Oasis Diagnostics Corp., a revocable, nonassignable, partially exclusive license to practice worldwide the Government owned inventions described in U.S. Patent 6,927,068 entitled “A Rapid and Non-Invasive Method to Evaluate Immunization Status of a Patient” issued 9 August 2005 and related foreign filings (PCT/US 2003/002239, EP/1490665, and AU/2003301840) in the fields of detection of antibodies in present in oral fluids from the group saliva, oral rinse expectorant, oral mucosal transudate, gingival crevicular fluid, and phlegmuntil.

DATES: Anyone wishing to object to the grant of this license must file written objections along with supporting evidence, if any, not later than November 13, 2007.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone: 301-319-7428.

(Authority: 35 U.S.C. 207, 37 CFR Part 404)

Dated: October 23, 2007.
T.M. Cruz,
Lieutenant, Judge Advocate General's Corps, U.S. Navy, Federal Register Liaison Officer.

[FR Doc. E7-21204 Filed 10-26-07; 8:45 am]

BILLING CODE 3810-FF-P